DEPARTMENT OF AGRICULTURE

Forest Service

Black Hills Resource Advisory Committee

AGENCY: Forest Service, USDA.

ACTION: Notice of meeting.

SUMMARY: The Black Hills Resource Advisory Committee (RAC) will conduct a virtual meeting. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/detail/blackhills/workingtogether/advisorycommittees/?cid=STELPRD3807565.

DATES: The meeting will be held on April 15, 2021 at 5:00 p.m., Mountain Standard Time. If business is not concluded another meeting will be held on April 22, 2021 at 5:00 p.m., Mountain Standard Time.

All meetings are subject to cancellation. For updated status of meeting prior to attendance, please contact the person listed under FOR FURTHER INFORMATION CONTACT.

ADDRESSES: The meeting will be held virtually along with a conference call line. Detailed instructions on how to attend the meeting virtually will be sent out via email along with a news release approximately one week prior to the meeting. Written comments may be submitted as described under SUPPLEMENTARY INFORMATION. All comments, including names and addresses, when provided, are placed in the record and available for public inspection and copying. The public may inspect comments received at the Mystic Ranger District Office. Please call ahead to facilitate entry into the building.

FOR FURTHER INFORMATION CONTACT: Kelly Warnke, Committee Coordinator, by phone at 605-716-1978 or by email at kelly.warnke@usda.gov.

Individuals who use telecommunication devices for the hearing-impaired (TDD) may call the Federal Information Relay Service (FIRS) at 1-800-877-8339 between 8:00 a.m. and 8:00 p.m., Eastern Standard Time, Monday through Friday.

SUPPLEMENTARY INFORMATION: The purpose of the meeting is to review and recommend projects for funding under the Secure Rural School allocations to Custer, Lawrence, and Pennington Counties for fiscal year 2020.

The meeting is open to the public. The agenda will include time for people to make oral statements of three minutes or less. Individuals wishing to provide comments to this meeting's agenda and to the meeting minutes/records must submit comments in writing by Friday April 8th, 2021. Anyone who would like to bring related matters to the attention of the committee may file written statements with the committee staff before or after the meeting.

Written comments must be sent to Kelly Warnke, Mystic Ranger District, 8221 Mount Rushmore Road, Rapid City, South Dakota 57702; by email to kelly.warnke@usda.gov, or via facsimile to 605-343-7134.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case-by-case basis.

Dated: March 12, 2021.
Cikena Reid,
USDA Committee Management Officer.

[FR Doc. 2021-05521 Filed 3-16-21; 8:45 am]

BILLING CODE 3411-15-P